DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held March 17, 2010 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Program Management Committee meeting. The agenda will include:

• Opening Plenary (Welcome and Introductions).

• Review/Approve Summary of December 2, 2009 PMC meeting, RTCA Paper No. 009-10/PMC-772.

• Publication Consideration/Approval.

• Final Draft, New Document, Safety, Performance and Interoperability Requirements Document for Enhanced Traffic Situational Awareness During Flight Operations (ATSA-AIRB), RTCA Paper No. 018-10/PMC-773, prepared by SC-186.

• Integration and Coordination Committee (ICC)—Report.

• SC-213 Coordination with other Special Committees—Recommendation

• SC-186/214 Coordination—Interval Management—Recommendation.

• Special Committee Interface Matrix—Review.

• Action Item Review.

• SC-147—Standards for Air Traffic Data Communications Services—Discussion—Review/Approve Revised Terms of Reference.

• SC-203—Unmanned Aircraft Systems (UAS)—Discussion—Review Status.

• SC-214—Standards for Air Traffic Data Communications Services—Discussion—Review/Approve Revised Terms of Reference.

• SC-218—Future ADS-B/TCAS Relationships—Discussion—Review Status.

• Discussion.

• SC-186—Automatic Dependent Surveillance—Broadcast—Discussion—Review/Approve Revised Terms of Reference.

• SC-213—Enhanced Flight Vision Systems/Synthetic Vision Systems, (EFVS/SVS)—Discussion—Review/Approve Revised Terms of Reference.

• Web Workplace—Discussion.

• ICAO—Discussion.

• Special Committees—Chairmen's Reports.

• Closing Plenary (Other Business, Document Production and PMC Meeting Schedule Meeting, Adjourned).

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on February 22, 2010.
Francisco Estrada C.,
RTCA Advisory Committee.

[FR Doc. 2010-4024 Filed 2-25-10; 8:45 am]

BILLING CODE 4910-13-P